DEPARTMENT OF COMMERCE

National Oceanic and Atmospheric Administration

[RTID 0648-XC515]

Caribbean Fishery Management Council; Public Meeting

AGENCY: National Marine Fisheries Service (NMFS), National Oceanic and Atmospheric Administration (NOAA), Commerce.

ACTION: Notice of a public hybrid meeting.

SUMMARY: The Caribbean Fishery Management Council's (Council) Scientific and Statistical Committee (SSC) will hold a public hybrid meeting to address the items contained in the tentative agenda included in the SUPPLEMENTARY INFORMATION.

DATES: The SSC public hybrid meeting will be held on November 29, 30 and December 1, 2022, from 10 a.m. to 5 p.m., Atlantic Standard Time (AST).

ADDRESSES: The SSC public hybrid meeting will be held at the Courtyard by Marriott Isla Verde Beach Resort, 7012 Boca de Cangrejos Avenue, Carolina, Puerto Rico 00979. You may join the SSC public hybrid meeting via Zoom by entering the following address: https://us02web.zoom.us/j/81086075177?pwd=TlBLb0NjWmZaR2h0b2NEbmpOTWtiQT09.

Meeting ID: 810 8607 5177

Passcode: 546850

One tap mobile

+19399450244, ,87345855856#,,,,*793249# Puerto Rico

+17879451488, ,87345855856#,,,,*793249# Puerto Rico

Dial by your location

+1 939 945 0244 Puerto Rico

+1 787 945 1488 Puerto Rico

+1 787 966 7727 Puerto Rico

+1 312 626 6799 US (Chicago)

+1 346 248 7799 US (Houston)

+1 646 558 8656 US (New York)

+1 669 900 9128 US (San Jose)

+1 253 215 8782 US (Tacoma)

+1 301 715 8592 US (Washington DC)

Meeting ID: 810 8607 5177

Passcode: 546850

Find your local number: https://us02web.zoom.us/u/kQvrOfR9i.

In case there are problems and we cannot reconnect via Zoom, the meeting will continue via GoToMeeting. You may join from a computer, tablet or smartphone by entering the following address: https://meet.goto.com/934508733.

You can also dial in using your phone.

United States: +1 (646) 749-3122

Access Code: 934-508-733

Join from a video-conferencing room or system.

Dial in or type: 67.217.95.2 or inroomlink.goto.com.

Meeting ID: 934 508 733.

Or dial directly: 934508733@67.217.95.2 or 67.217.95.2##934508733.

Get the app now and be ready when the first meeting starts: https://meet.goto.com/install.

FOR FURTHER INFORMATION CONTACT: Miguel A. Rolón, Executive Director, Caribbean Fishery Management Council, 270 Muñoz Rivera Avenue, Suite 401, San Juan, Puerto Rico 00918-1903, telephone: (787) 766-5926.

SUPPLEMENTARY INFORMATION: The following items included in the tentative agenda will be discussed:

November 29, 2022

10 a.m.-10:15 a.m.

—Call to Order

—Roll Call

—Adoption of Agenda

—Approval of Verbatim Transcriptions

10:15 a.m.-12:30 p.m.

—Finalize SEDAR 80 Queen Triggerfish for Puerto Rico—Southeast Fishery Science Center (SEFSC)

12:30 p.m.-1:30 p.m.

—Lunch

1:30 p.m.-3 p.m.

—SEDAR 57 Spiny Lobster Update Assessment—SEFSC

—Puerto Rico, St. Thomas/St. John, St. Croix

3 p.m.-3:15 p.m.

—Break

3:15 p.m.-5 p.m.

—SEDAR 57 Spiny Lobster Update Assessment (continued)—SEFSC

—Puerto Rico, St. Thomas/St. John, St. Croix

—SSC Recommendations to CFMC

November 30, 2022

10 a.m.-12:30 p.m.

—Review SEDAR 80 Queen Triggerfish St. Thomas/St. John

—Review SEDAR 80 Queen Triggerfish St. Croix

—SEDAR 80 Queen Triggerfish (continued)

—Review Base Models

—SSC Recommendations for Any Additional Work

—SSC Guidance for Additional Analysis Including Projections

—SSC Recommendations to Finalize SEDAR 80 Queen Triggerfish Assessments

—SSC Final Discussion on SEDAR 80 Queen Triggerfish Assessments

—SSC Recommendations to CFMC

12:30 p.m.-1:30 p.m.

—Lunch

1 p.m.-3 p.m.

—National SSC (August 15-17, 2022) Update—Richard Appeldoorn, J.J. Cruz Motta, Tarsila Seara

—Case Study 8: Multivariate Approaches for Ecosystem Based Fishery Management (EBFM) Implementation in the U.S. Caribbean

3 p.m.-3:15 p.m.

—Break

3:15 p.m.-5 p.m.

—Marine Economy Measurements for the U.S. Caribbean—Expansion of NOAA's Economics National Ocean Watch (ENOW) Database—Kate Quigley

—Island-Based Fishery Management Plans and Amendments Update—María López-Mercer, SERO/NOAA Fisheries

—CFMC Research Priorities

December 1, 2022

10 a.m.-5 p.m.

—CFMC Research Priorities (continued)

—Recommendations to CFMC

12 p.m.-1 p.m.

—Lunch

—CFMC Research Priorities (continued)

—Recommendations to CFMC

—Other Business

—Adjourn

The order of business may be adjusted as necessary to accommodate the completion of agenda items. The SSC three-day public hybrid meeting will begin on November 29, 2022, at 10 a.m. AST, and will end on December 1, 2022, at 5 p.m. AST. Other than the start time, interested parties should be aware that discussions may start earlier or later than indicated, at the discretion of the Chair. In addition, the meeting may be completed prior to the date established in this notice.

Special Accommodations

For any additional information on this public hybrid meeting, please contact Dr. Graciela García-Moliner, Caribbean Fishery Management Council, 270 Muñoz Rivera Avenue, Suite 401, San Juan, Puerto Rico, 00918-1903, telephone: (787) 403-8337.

Authority: 16 U.S.C. 1801 et seq.

Dated: November 4, 2022.
Rey Israel Marquez,
Acting Deputy Director, Office of Sustainable Fisheries, National Marine Fisheries Service.

[FR Doc. 2022-24456 Filed 11-8-22; 8:45 am]

BILLING CODE 3510-22-P